NUCLEAR REGULATORY COMMISSION

Request To Amend License To Import Radioactive Waste

Pursuant to 10 CFR 110.70(c) “Public notice of receipt of an application,” please take notice that the Nuclear Regulatory Commission has received the following request to amend an import license. Copies of the request are available electronically through ADAMS and can be accessed through the Public Electronic Reading Room (PERR) link http://www.nrc.gov/NRC/ADAMS/index.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

The information concerning this amendment request follows.

NRC Import License Application
Name of Applicant, date of application, date received, application number, docket number | Description of material | End use | Country of origin
Diversified Scientific Services, Inc., December 21, 2004, December 28, 2004, IW004/03, 11004982 | Class A radioactive mixed waste containing tritium and carbon-14, and mixed fission product radionuclides | For processing, incineration and return of resultant residue to Canada. Amend to: (1) extend the expiration date from December 31, 2004, to December 31, 2006; and (2) update the domestic Radioactive Materials License to R-73014-414. | Canada.

Dated this 14th day of February 2005, at Rockville, Maryland.
For the Nuclear Regulatory Commission.
Janice Dunn Lee,
Director, Office of International Programs.

[FR Doc. 05-3264 Filed 2-18-05; 8:45 am]

BILLING CODE 7590-01-P